COMMITTEE FOR PURCHASE FROM PEOPLE WHO ARE BLIND OR SEVERELY DISABLED

Procurement List; Additions and Deletion

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

DATES: Effective September 25, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION:

Additions

On June 17, June 24 and July 1, 2005, the Committee for Purchase From People Who Are Blind or Severely Disabled published notices (70 FR 35223, 36561, and 38099) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following product and services are added to the Procurement List:

Product

Mop, Deck, Cotton, Blue & Refill

NSN: M.R. 1068—Blue Cotton Deck Mop Refill

NSN: M.R. 1067—Blue Cotton Deck Mop

NPA: L.C. Industries for the Blind, Inc., Durham, North Carolina.

Contracting Activity: Defense Commissary Agency (DeCA), Fort Lee, Virginia.

Services

Service Type/Location: Custodial Services, Philadelphia Naval Business Center, Engineering Field Activity Northeast, 4903 S. Broad Street, Philadelphia, Pennsylvania.

NPA: Elwyn, Inc., Aston, Pennsylvania.

Contracting Activity: Naval Facilities Engineering Command/Northern Division, Philadelphia, Pennsylvania.

Service Type/Location: Food Service Attendant, Naval Construction Battalion Center, Building 1050, Gulfport, Mississippi.

NPA: Lakeview Center, Inc., Pensacola, Florida.

Contracting Activity: Fleet and Industrial Supply Center, Jacksonville, Florida.

Service Type/Location: Laundry Service, Health & Human Services Supply Center, Perry Point, Maryland.

NPA: Rappahannock Goodwill Industries, Inc., Fredericksburg, Virginia.

Contracting Activity: Health & Human Services, Program Support Center, Perry Point, Maryland.

Deletion

On July 1, 2005, the Committee for Purchase From People Who Are Blind or Severely Disabled published notice (70 FR 38099) of proposed deletion to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Pen, Ballpoint, Stealth Writer

NSN: 7520-01-439-3396—Pen, Ballpoint, Stealth Writer

NSN: 7520-01-439-3401—Pen, Ballpoint, Stealth Writer

NSN: 7520-01-439-3402—Pen, Ballpoint, Stealth Writer

NSN: 7520-01-439-3405—Pen, Ballpoint, Stealth Writer

NSN: 7520-01-439-3406—Pen, Ballpoint, Stealth Writer

NSN: 7520-01-439-3395—Pen, Ballpoint, Stealth Writer

NPA: Industries for the Blind, Inc., Milwaukee, Wisconsin.

Contracting Activity: Office Supplies & Paper Products Acquisition Center, New York, New York.

Sheryl D. Kennerly,
Director, Information Management.

[FR Doc. E5-4674 Filed 8-25-05; 8:45 am]

BILLING CODE 6353-01-P